DEPARTMENT OF COMMERCE

International Trade Administration

[A-570-022]

Certain Uncoated Paper From the People's Republic of China: Final Determination of Sales at Less Than Fair Value

AGENCY: Enforcement and Compliance, International Trade Administration, Department of Commerce.

SUMMARY: The Department of Commerce (“Department”) determines that certain uncoated paper from the People's Republic of China (“PRC”) is being, or is likely to be, sold in the United States at less than fair value (“LTFV”), as provided in section 735 of the Tariff Act of 1930, as amended (“the Act”). The period of investigation (“POI”) is July 1, 2014, through December 31, 2014. The final weighted-average dumping margins of sales at LTFV are listed below in the “Final Determination Margins” section of this notice.

DATES: Effective: January 20, 2016.

FOR FURTHER INFORMATION CONTACT: Stephanie Moore, AD/CVD Operations, Office III, Enforcement and Compliance, International Trade Administration, U.S. Department of Commerce, 14th Street and Constitution Avenue NW., Washington, DC 20230; telephone: (202) 482-3692.

SUPPLEMENTARY INFORMATION:

Background

On August 26, 2015, the Department published the Preliminary Determination of this antidumping duty (“AD”) investigation.¹ The following events occurred since the Preliminary Determination was issued.

¹ See Certain Uncoated Paper from the People's Republic of China: Preliminary Determination of Sales at Less Than Fair Value and Postponement of Final Determination, 80 FR 51768 (August 26, 2015) (“Preliminary Determination”) and accompanying Preliminary Decision Memorandum.

Between September 21, 2015, and September 30, 2015, the Department conducted verifications of the sales and factors of production (“FOP”) information submitted by Greenpoint Global Trading (Macao Commercial Offshore) Ltd. (“Greenpoint”), Asia Symbol (Guangdong) Paper Co. Ltd. (“AS Guangdong”), and Asia Symbol (Shandong) Pulp and Paper Co. Ltd. (“AS Shandong”) (collectively, “Asia Symbol”) ² for use in the final determination. We issued our verification report on November 10, 2015.³

² The Department preliminarily collapsed AS Guangdong, AS Shandong, and Greenpoint, treating them as a single entity for the purposes of calculating a margin in this investigation. See Memorandum to the File, “Investigation of Uncoated Paper from the People's Republic of China: Preliminary Determination Regarding Affiliation and Collapsing of Asia Symbol (Guangdong) Paper Co., Ltd., Asia Symbol (Shandong) Pulp and Paper Co., Ltd., and Greenpoint Global Trading (Macao Commercial Offshore) Ltd.,” dated August 19, 2015. No party provided further comment or subsequent challenge to this finding. Accordingly, the Department sustains this collapsing determination for the final determination.

³ See Memorandum to the File, “Verification of the Sales and Factors Responses of Greenpoint Global Trading (Macao Commercial Offshore) Ltd., Asia Symbol (Guangdong) Paper Co. Ltd., and Asia Symbol (Shandong) Pulp and Paper Co., Ltd. in the Antidumping Investigation of Uncoated Paper from the People's Republic of China,” dated November 10, 2015 (“Asia Symbol Verification Report”).

Petitioners and Asia Symbol submitted case briefs on November 19, 2015,⁴ and rebuttal briefs on November 24, 2015.⁵ On December 9, 2015, Asia Symbol provided a revised FOP database and market-economy purchases (“MEP”) chart.⁶ On December 15, 2015, Petitioners provided comments on that submission.⁷

⁴ See Letter from Petitioners, “Certain Uncoated Paper from the People's Republic of China: Petitioners Case Brief,” dated November 19, 2015 (“Petitioners' Case Brief”). See also Letter from Asia Symbol, “Certain Uncoated Paper from the People's Republic of China: Case Brief of the Asia Symbol Companies,” dated November 19, 2015 (“Asia Symbol's Case Brief”).

⁵ See Letter from Petitioners, “Certain Uncoated Paper from the People's Republic of China: Petitioners' Rebuttal Brief,” dated November 24, 2015 (“Petitioners' Rebuttal Brief”). See also Letter from Asia Symbol, “Certain Uncoated Paper from the People's Republic of China: Rebuttal Brief of the Asia Symbol Companies,” dated November 24, 2015 (“Asia Symbol's Rebuttal Brief”).

⁶ See Letter from Asia Symbol, “Certain Uncoated Paper from the People's Republic of China: Revised Database and MEP Chart,” dated December 9, 2015 (“Revised Database Submission”).

⁷ See Letter from Petitioners, “Certain Uncoated Paper from the People's Republic of China: Petitioners' Response to Asia Symbol's Revised Database and MEP Chart,” dated December 15, 2015.

Scope of the Investigation

The product covered by this investigation is certain uncoated paper from the PRC. For a full description of the scope of this investigation, see the “Scope of the Investigation,” in Appendix I of this notice, which incorporates changes made subsequent to the Preliminary Determination.

On October 2, 2015, Gartner Studios, Inc. submitted its case brief on the scope of the investigations.⁸ On October 19, 2015, American Greetings Corporation (“American Greetings”) submitted its case brief regarding the scope of the investigations.⁹ On October 29, 2015, Petitioners submitted their rebuttal brief regarding the scope of the investigations.¹⁰ The Department is issuing a scope comments decision memorandum for the final determinations of the AD and countervailing duty investigations of uncoated paper, which is incorporated by reference in, and hereby adopted by, this final determination.¹¹ As explained in the Final Scope Decision Memorandum, to facilitate the scope's administrability and enforcement, we have clarified the scope language such that certain uncoated paper with “final printed content” is excluded from the scope of the investigations.

⁸ See Letter to Secretary Pritzker, from Gartner Studios, Inc., “Certain Uncoated Paper from Australia, Brazil, the People's Republic of China, Indonesia, and Portugal: Case Brief” (October 2, 2015).

⁹ See Letter to Secretary Pritzker, from American Greetings, “Certain Uncoated Paper from Australia, Brazil, the People's Republic of China, Indonesia, and Portugal: Case Brief of American Greetings Corporation” (October 19, 2015).

¹⁰ See Letter to Secretary Pritzker, from Petitioners, “Certain Uncoated Paper from Australia, Brazil, the People's Republic of China, Indonesia, and Portugal: Scope Rebuttal Brief” (October 29, 2015).

¹¹ See the Department's Memorandum to the File, “Less Than Fair Value Investigations of Certain Uncoated Paper from Australia, Brazil, the People's Republic of China, Indonesia, and Portugal; and Countervailing Duty Investigations of Certain Uncoated Paper from the People's Republic of China and Indonesia: Scope Comments Decision Memorandum for the Final Determinations,” dated January 8, 2016 (“Final Scope Decision Memorandum”).

Analysis of Comments Received

All issues raised in the case and rebuttal briefs by interested parties in this investigation that are not related to the scope of this investigation are addressed in the Issues and Decision Memorandum, which is incorporated by reference by, and hereby adopted by, this notice.¹² The Issues and Decision Memorandum is a public document and is on file electronically via Enforcement and Compliance's Antidumping and Countervailing Duty Centralized Electronic Service System (“ACCESS”). ACCESS is available to registered users at http://access.trade.gov. The Issues and Decision Memorandum is available to all parties in the Central Records Unit, room B8024 of the main Department of Commerce building. In addition, a complete version of the Issues and Decision Memorandum is available at http://enforcement.trade.gov/frn/index.html. The signed and electronic versions of the Issues and Decision Memorandum are identical in content.

¹² See Memorandum to Paul Piquado, Assistant Secretary for Enforcement and Compliance, “Issues and Decision Memorandum for the Final Determination of Sales at Less than Fair Value in the Antidumping Duty Investigation of Certain Uncoated Paper from the People's Republic of China,” dated concurrently with this notice (“Issues and Decision Memorandum”).

Verification

As provided in section 782(i) of the Act, from September 21, 2015, to September 30, 2015, we conducted verification of the information submitted by Asia Symbol for use in the final determination.¹³ We issued a verification report on November 10, 2015.¹⁴ The Department used standard verification procedures, including an examination of relevant accounting and production records and original source documents provided by respondents.¹⁵

¹³ See Memorandum to the File, “Verification of the Sales and Factors Responses of Greenpoint Global Trading (Macao Commercial Offshore) Ltd., Asia Symbol (Guangdong) Paper Co. Ltd., and Asia Symbol (Shandong) Pulp and Paper Co., Ltd. in the Antidumping Investigation of Uncoated Paper from the People's Republic of China,” dated November 10, 2015 (“Verification Report”).

¹⁴ See Memorandum to the File, “Verification of the Sales and Factors Responses of Greenpoint Global Trading (Macao Commercial Offshore) Ltd., Asia Symbol (Guangdong) Paper Co. Ltd., and Asia Symbol (Shandong) Pulp and Paper Co., Ltd. in the Antidumping Investigation of Uncoated Paper from the People's Republic of China,” dated November 10, 2015 (“Verification Report”).

¹⁵ Id.

Changes Since the Preliminary Determination

Based on the Department's analysis of the comments received and our findings at verification, we made certain changes to Asia Symbol's margin calculations. For a discussion of these changes, see the Issues and Decision Memorandum.

Combination Rates

In the Initiation Notice,¹⁶ the Department stated that it would calculate combination rates for the respondents that are eligible for a separate rate in this investigation. Policy Bulletin 05.1 describes this practice.¹⁷

¹⁶ See Certain Uncoated Paper From Australia, Brazil, the People's Republic of China, Indonesia, and Portugal: Initiation of Less-Than-Fair-Value Investigations, 80 FR 8608 (February 18, 2015) (“Initiation Notice”).

¹⁷ See Enforcement and Compliance's Policy Bulletin No. 05.1, regarding, “Separate-Rates Practice and Application of Combination Rates in Antidumping Investigations involving Non-Market Economy Countries,” dated April 5, 2005 (“Policy Bulletin 05.1”), available on the Department's Web site at http://enforcement.trade.gov/policy/bull05-1.pdf.

PRC-Wide Rate

For the final determination, we have determined to use, as the adverse facts available (“AFA”) rate applied to the PRC-wide entity, 149.00 percent, the highest transaction-specific dumping margin calculated in the final determination. Consistent with our practice, the Department selected Asia Symbol's highest transaction-specific margin, as AFA, because this rate is higher than the other rates in this investigation and therefore, sufficiently adverse to serve the purposes of facts available.¹⁸ Furthermore, there is no need to corroborate the selected margin because it is based on information submitted by Asia Symbol in the course of this investigation, i.e., it is not secondary information.¹⁹

¹⁸ See Issues and Decision Memorandum for a detailed discussion.

¹⁹ See 19 CFR 351.308(c) and (d) and section 776(c) of the Act. See also Issues and Decision Memorandum at Comment 20.

Final Determination

The Department determines that the estimated final weighted-average dumping margins are as follows:

Exporter | Producer | Weighted- average dumping margin (percent)
Greenpoint Global Trading (Macao Commercial Offshore) Ltd | Asia Symbol (Guangdong) Paper Co., Ltd.; and Asia Symbol (Shandong) Pulp & Paper Co., Ltd | 84.05
PRC-Wide Entity |  | 149.00

Disclosure

We intend to disclose to parties the calculations performed in this proceeding within five days of the public announcement of this final determination in accordance with 19 CFR 351.224(b).

Continuation of Suspension of Liquidation

In accordance with section 735(c)(1)(B) of the Act, the Department will instruct U.S. Customs and Border Protection (“CBP”) to continue to suspend liquidation of all appropriate entries of certain uncoated paper from the PRC as described in Appendix I of this notice, which were entered, or withdrawn from warehouse, for consumption on or after August 26, 2015, the date of publication in the Federal Register of the affirmative Preliminary Determination.

Further, pursuant to 19 CFR 351.205(d), the Department will instruct CBP to require a cash deposit equal to the weighted-average amount by which the normal value exceeds U.S. price, adjusted where appropriate for export subsidies and estimated domestic subsidy pass-through,²⁰ as follows: (1) For the exporter/producer combination listed in the table above, the cash deposit rate will be equal to the dumping margin which the Department determined in this final determination; (2) for all combinations of PRC exporters/producers of merchandise under consideration which have not received their own separate rate above, the cash deposit rate will be equal to the dumping margin established for the PRC-wide entity; and (3) for all non-PRC exporters of merchandise under consideration which have not received their own separate rate above, the cash deposit rate will be equal to the cash deposit rate applicable to the PRC exporter/producer combination that supplied that non-PRC exporter.

²⁰ See Modification of Regulations Regarding the Practice of Accepting Bonds During the Provisional Measures Period in Antidumping and Countervailing Duty Investigations, 76 FR 61042 (October 3, 2011) and section 772(c)(1)(C) of the Act. Unlike in administrative reviews, the Department calculates the adjustment for export subsidies in investigations not in the margin calculation program, but in the cash deposit instructions issued to CBP. See Notice of Final Determination of Sales at Less Than Fair Value, and Negative Determination of Critical Circumstances: Certain Lined Paper Products from India, 71 FR 45012 (August 8, 2006), and accompanying Issues and Decision Memorandum at Comment 1.

As we stated in the Preliminary Determination, consistent with our practice, where the product under investigation is also subject to a concurrent countervailing duty investigation, we instruct CBP to require a cash deposit equal to the amount by which the normal value exceeds the export price or constructed export price, less the amount of the countervailing duty determined to constitute an export subsidy.²¹ In this LTFV investigation, export subsidies constitute 0.13 percent ²² of the final calculated countervailing duty rate in the concurrent countervailing duty investigation, and, thus, we will offset the calculated rates for Asia Symbol, the company receiving a separate rate, and the PRC-wide rate by the countervailing duty rate attributable to export subsidies (i.e., 0.13 percent) to calculate the cash deposit rate for this LTFV investigation.²³ We are not adjusting the rates for estimated domestic subsidy pass-through because there is no cost-to-price linkage to a subsidized program and, thus, we have no basis upon which to make such an adjustment.²⁴

²¹ See Preliminary Determination, 80 FR at 51769-70.

²² The following subsidy programs in the final determination of the concurrent countervailing duty investigation are export subsidies: City bonus for export activity from finance bureau (0.13 percent). See Countervailing Duty Investigation of Certain Uncoated Paper from the People's Republic of China: Final Affirmative Countervailing Duty Determination (“CVD Final”), and accompanying Issues and Decision Memorandum. The final determination in this companion CVD proceeding is being concurrently released on the same day as this final determination.

²³ The cash deposit rate reflecting the export subsidy offset will be in effect until the countervailing duty provisional measures expire (i.e. 120 days after the publication of the preliminary determination of the companion countervailing duty investigation).

²⁴ See Preliminary Decision Memorandum at the section, “Adjustment Under Section 777A(f) of the Act.”

International Trade Commission Notification

In accordance with section 735(d) of the Act, we will notify the International Trade Commission (“ITC”) of the final affirmative determination of sales at LTFV. Because the final determination in this proceeding is affirmative, in accordance with section 735(b)(2) of the Act, the ITC will determine, within 45 days, whether the domestic industry in the United States is materially injured, or threatened with material injury, by reason of imports of certain uncoated paper from the PRC, or sales (or the likelihood of sales) for importation, of certain uncoated paper from the PRC. If the ITC determines that such injury does not exist, this proceeding will be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Notification Regarding Administrative Protective Orders

This notice also serves as a reminder to the parties subject to administrative protective order (“APO”) of their responsibility concerning the disposition of propriety information disclosed under APO in accordance with 19 CFR 351.305(a)(3). Timely written notification of return or destruction of APO materials or conversion to judicial protective order is hereby requested. Failure to comply with the regulations and terms of an APO is a sanctionable violation.

This determination is issued and published in accordance with sections 735(d) and 777(i)(1) of the Act.

Dated: January 8, 2016.
Paul Piquado,
Assistant Secretary for Enforcement and Compliance.

Appendix I—Scope of the Investigation

The merchandise covered by this investigation includes uncoated paper in sheet form; weighing at least 40 grams per square meter but not more than 150 grams per square meter; that either is a white paper with a GE brightness level ¹ of 85 or higher or is a colored paper; whether or not surface-decorated, printed (except as described below), embossed, perforated, or punched; irrespective of the smoothness of the surface; and irrespective of dimensions (Certain Uncoated Paper).

¹ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Certain Uncoated Paper includes (a) uncoated free sheet paper that meets this scope definition; (b) uncoated ground wood paper produced from bleached chemi-thermo-mechanical pulp (BCTMP) that meets this scope definition; and (c) any other uncoated paper that meets this scope definition regardless of the type of pulp used to produce the paper.

Specifically excluded from the scope are (1) paper printed with final content of printed text or graphics and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the investigations is dispositive.

Appendix II—List of Topics Discussed in the Final Decision Memorandum

I. Summary

II. Background

III. Period of Investigation

IV. Margin Calculations

V. List of Comments

VI. Discussion of Comments

Comment 1: Surrogate Country

Comment 2: Selection of Surrogate Value for Wood Chips

Comment 3: Selection of Surrogate Values for Sodium Hypochlorite, Citric Acid, and Aluminum Chloride

Comment 4: Selection of Surrogate Value for Bamboo Pulp

Comment 5: Selection of Surrogate Values for Cationic Starch, Whitening Materials, Calcium Carbonate Fillers, Hydrogen Peroxide, Ferrous Sulphate, and Sodium Sulphate

Comment 6: Selection of Surrogate Value for Fuel Inputs

Comment 7: Selection of Surrogate Value for Native Starches

Comment 8: Selection of Surrogate Values for Limestone, Antifoam Compound, Liquid Polymer, and Sodium Phosphate

Comment 9: Selection of Surrogate Value for LMSTONE80_ENE_MAT

Comment 10: Selection of Surrogate Value for Bailing Wire

Comment 11: Selection of Surrogate Value for Packing Cartons

Comment 12: Selection of Surrogate Value for Paper Cores

Comment 13: Selection of Surrogate Value for Packing Covers

Comment 14: Brokerage and Handling Surrogate Value

Comment 15: Conversion of Nitrogen Surrogate Value

Comment 16: Inland Insurance Surrogate Value

Comment 17: Water Treatment Chemical FOPs Comment

18: Minor Correction for Market Economy Purchases

Comment 19: Mondi's SG&A Ratio

Comment 20: PRC-Wide Rate

Comment 21: Minor Corrections and Inadvertent Errors

VII. Recommendation

[FR Doc. 2016-01020 Filed 1-19-16; 8:45 am]

BILLING CODE 3510-DS-P